DEPARTMENT OF THE INTERIOR

National Park Service

30-Day Notice of Submission of Study Package to Office of Management and Budget; Opportunity for Public Comment

AGENCY: National Park Service, Department of the Interior.

ACTION: Notice and request for comments.

SUMMARY: Under provisions of the Paperwork Reduction Act of 1995 and 5 CFR Part 1320, Reporting and Record Keeping Requirements, the National Park Service (NPS) invites comments on a proposed new collection of information (OMB #1024-xxxx).

The Office of Management and Budget (OMB) has up to 60 days to approve or disapprove the NPS request for the collection of information, but may respond after 30 days. Therefore, to ensure maximum consideration, OMB should receive public comments within 30 days of the date on which this notice is published in the Federal Register.

This study will provide the NPS and park managers with critical public input regarding deer issues in and around northeastern NPS units. The study will use a mail survey of hometown in communities near parks to assess: (1) The degree to which experience, individual capacity, and perceptions of institutional capacity affect residents' intention to participate in deer management planning, (2) the degree of cognitive co-orientation between park managers and stakeholders about deer and deer management, and (3) social and demographic attributes of residents with different degrees of intention to participate and/or co-orientation to managers.

DATES: Public comments will be accepted on or before February 20, 2007.

ADDRESSES: You may submit comments directly to the Desk Officer for the Department of the Interior, (OMB #1024-xxxx) Office of Information and Regulatory Affairs, OMB by fax at 202-395-6566 or by electronic mail at OIRA_DOCKET@omb.eop.gov. Please also send a copy of your comments to Leonard E. Stowe, National Park Service, 1849 C Street, NW., (2605), Washington, DC 20240, or by e-mail to Leonard_Stowe@nps.gov.

FOR FURTHER INFORMATION CONTACT: Dr. Margaret Wild. Voice: 970-225-3593, Fax: 970-225-3585, E-mail: Margaret_Wild@nps.gov.

You are entitled to a copy of the entire ICR package free-of-charge. The NPS published a Federal Register notice to solicit comments on this proposed information collection on September 18, 2006, Volume 71, Number 180, pages 54686-54687.

Input was sought out from a number of stakeholders and others interested in the research project, including interviewees identified in previous preliminary qualitative inquiry with residents of communities near three of the five parks to be surveyed (see OMB Approval #104-0224, NPS #05-047). Comments from two individuals were received as a result of this request for input.

One unsolicited request for a draft survey was received from D.J. Schubert, Wildlife Biologist at the Animal Welfare Institutes. Mr. Schubert submitted a number of comments in response to the draft survey. He believed that to adequately assess public opinion, the survey should be broadened to include park users and to a representative sample of the public nationwide. He also believed that those who receive the survey may understand it to be an indication that it is the first step towards management action, and that the introductory remarks were inadequate. He also believed the survey should include more knowledge questions to assess the reasons behind people's beliefs about both the NPS and deer and questions that assess people's experience using non-lethal deer management alternatives. In addition, he thought the format of Question 8 could be confusing; believed that Question 10 should be worked more neutrally and should be presented as two questions for clarity; and believed that Question 11 asked people to make value judgments that may be based on different criteria for different people. He was concerned that some of the data collected in the survey may be difficult to interpret and may provide misleading results unless additional data is collected and the survey is amended. He also stressed that resolving deer-related concerns in national parks is dictated by law, regulation, and policy and that management cannot deviate from such standards, regardless of public opinion.

Comments regarding sampling frame were received from Gerard Stoddard, President of the Fire Island Association. He observed that there are many long-term renters who would not be reached by a survey focusing on homeowners. He also noted that Fire Island communities are IN, not near the park. We recognize that there are many stakeholders who are interested in the management of Fire Island National Seashore, from homeowners to long-term renters, short-term renters, campers, boaters, and other day users. We chose to focus on homeowners for this survey because preliminary qualitative inquiry indicated that were somewhat different from renters (see OMB Approval #1024-0224, NPS #05-047). Long-term renters were included in preliminary qualitative inquiry and their perspectives helped shape the questions included on the survey instrument. Language describing the study area of interest and a map showing park boundaries were added to the questionnaire to clarify the relationship between Fire Island communities and Fire Island National Seashore boundaries.

Another comment regarding sampling frame was received from Ronald Martin, President of the Fire Island Pines Property Owners Association. He pointed out that the opinions and experiences regarding deer may be different for communities on Fire Island and those on Long Island. He believed that results should be geographically segmented. In response to this comment, geographic information about responses will be collected so that analysis can be accordingly segregated.

This survey is not meant to be a metric of general public opinion, nor is it designed to be a tool for making decisions about different action alternatives. The survey is intended to assess only local community beliefs about and level of interest in deer and deer issues in and around these parks and is not equivalent to public scoping as required by the National Environmental Policy (NEPA, 42 U.S.C. 4231 et seq.). If any of the parks decide to consider formal management action related to deer, a full public scoping process would be undertaken. In response to the above comments, a section to this effect is included in the cover letters that are received with the survey. At this time, only Valley Forge NHP is undertaking a Deer Management Environmental Impact Statement, and they have begun a separate public scoping process.

In designing the survey, we worked closely with professionals who specialize in survey design and considered tradeoffs between likelihood of response and survey length, clarity of questions, and depth of understanding. We are not attempting to intuit the full suite of people's reasons for holding the beliefs that they do. We recognize that people's history of experience, knowledge, and values (among others) will play a large role in the way they respond to question items. To fully assess all the reasons behind each response is beyond the scope of any survey. Instead, our goal is to identify the climate for communication with the park; i.e., what are the main concerns of local community members and how are these similar or different from the park. Future dialogue with park staff would be needed to determine the full suite of reasons behind these concerns. Questions 8, 10 and 11 are similar in format to questions that have been used in previous surveys conducted by Cornell University's Human Dimensions Research Unit and did not appear to pose problems of clarity. In response to specific comments above, we reworded question 10 to be more natural.

Each of the study sites for this survey is a park where formal deer management is not currently in place. Formative research with NPS managers identified local community members as playing a crucial role in the development of issues (like those related to deer) from vague concerns to topics meriting management action (Leong and Decker 2005). This survey is designed to help managers identify salient problem elements and communication needs, should they decide to move forward with deer management. By identifying these needs a priority, this survey will help managers improve the quality of future public participation and civic engagement processes that are mandated by Federal policies as a vital part of the decision-making process (National Park Service 2000, 2001b, a, 2003). These policies also recognize that local communities may have different concerns than the general public and that it is important to consider these concerns in addition to national concerns.

The survey cannot be used to make recommendations about management actions because (1) the management problem has not yet been defined (except in the case of Valley Forge NHP), and (2) no questions were asked about potential actions. No other unsolicited comments were received for this one-time information collection as a result of the Federal Register notice.

SUPPLEMENTARY INFORMATION:

Title: Identifying Capacity for Local Community Participation in Wildlife Management Planning: White-tailed Deer in Northeastern NPS Units.

OMB Number: To be requested.

Expiration Date: To be requested.

Type of Request: New collection.

Description of need: NPS and DOI policies have begun to emphasize on civic engagement and public participation in park management (NPS Director's Order 75A), as well as communication and collaboration with local communities (NPS Director's Order 52A). Discussions with NPS natural resource managers indicate a need for tools to better understand local community residents and ways to engage them in management and planning, especially in situations where communities may be impacted by NPS Management decisions. This study will provide insight on local stakeholder opinions and experiences related to the role of parks in deer and other wildlife management, their understanding of deer issues and ways to address them in parks, and the influence of public input in wildlife management in parks. This information will assist park staff in improving communication with the public in the event that these parks consider managing impacts related to deer in the future. Insights from this study also should enhance NPS ability to respond to other natural resource management issues that involve local communities.

The goal of this study is to identify criteria for public involvement strategies that successfully engage the public in management planning, particularly with respect to deer management. Collection of these data will assist NPS managers in fulfilling recent policy directives for public participation by indicating how to adapt participatory processes to best meet the specific management and stakeholder contexts. Should these data not be collected, future participatory processes will be undertaken without the benefit of research showing the relevance to public-participation processes to audiences. This could result in receiving public input that is not representative of the public at large or designing participatory processes that are more likely to incite controversy than identify constructive solutions. Specific requirements regarding the information that must be submitted by offerors in response to a prospectus issued by NPS are contained in sections 403(4), (5), (7), and (8) of the Act.

Comments are invited on: (1) The practical utility of the information being gathered; (2) the accuracy of the burden hour estimate; (3) ways to enhance the quality, utility, and clarity of the information to be collected; and (40 ways to minimize the burden to respondents, including the use of automated information collection techniques or other forms of information technology. Before including your address, phone number, e-mail address, or other personal identifying information in your comment, you should be aware that your entire comment—including your personal identifying information—may be made publicly available at any time. While you can ask us in your comment to withhold your personal identifying information from public review, we cannot guarantee that we will be able to do so.

Bureau Form Number: None.

Frequency of Collection: On occasion.

Description of respondents: Residents of communities near: The Potomac Gorge area of Chesapeake and Ohio Canal National Historical Park; Fire Island National Seashore; Morristown National Historical Park; Prince William Forest Park; and Valley Forge National Historical Park.

Automated data collection: This information will be collected via mail-back questionnaire. Telephone interviews will be conducted with a small number of non-respondents to the mail survey. No automated data collection will take place.

Estimated average number of respondents: 2500 (2000 respondents for mail survey; 500 respondents for telephone interviews).

Estimated average number of responses: 2500 (2000 responses for mail survey; 500 responses for telephone interviews).

Estimated average burden hours per response: 1/3 hour for mail survey respondents, 1/12 for follow-up telephone interview respondents.

Frequency of Response: 1 time per respondent.

Estimated annual reporting burden: 709 hours.

Total Non-hour Cost Burden: 0.

Dated: January 10, 2007.
Leonard Stowe,
NPS Information Collection Clearance Officer.

[FR Doc. 07-205 Filed 1-18-07; 8:45 am]

BILLING CODE 4312-52-M